DEPARTMENT OF VETERANS AFFAIRS

Research Advisory Committee on Gulf War Veterans' Illnesses, Notice of Meeting

The Department of Veterans Affairs (VA) gives notice under the Federal Advisory Committee Act, 5 U.S.C. Ch. 10, that the Research Advisory Committee on Gulf War Veterans' Illnesses will meet by teleconference on February 17, 2026. The meeting will begin at 11:00 a.m. Eastern Standard Time (EST) and end at 3:00 p.m. EST. All sessions will be open to the public.

The purpose of the Committee is to provide advice and make recommendations to the Secretary of Veterans Affairs on proposed research studies, research plans, and research strategies relating to the health consequences of military service in the Southwest Asia theater of operations during the Gulf War in 1990-91.

On February 17, 2026, the Committee will receive a FACA 101 brief, hear presentations by invited subject matter experts, and discuss next steps for the committee working groups.

This meeting will be available via Webex at the following URL: https://veteransaffairs.webex.com/veteransaffairs/j.php?MTID=m59fce0d6c040ab0ea95798bdbeca73cb. Or, join by phone: 1-833-558-0712 Toll-free; meeting access code: 2826 068 7849. Meeting password: GWVets1991!

The meeting will include time reserved for public comments 30 minutes before the meeting closes. As time is limited, individuals wishing to make public comments can contact VARACGWVI@va.gov in advance to reserve time during the public comment period or submit written comments (max. 2-pages). Each public comment speaker will be held to a 3-5-minute time limit as time permits. Individuals wishing to seek additional information should contact Dr. Karen Block, Designated Federal Officer, at Karen.Block@va.gov.

Dated: February 5, 2026.
LaTonya L. Small,
Federal Advisory Committee Management Officer.

[FR Doc. 2026-02568 Filed 2-9-26; 8:45 am]

BILLING CODE 8320-01-P